DEPARTMENT OF LABOR

Employment and Training Administration

[TA-W-65,159]

Chrysler LLC; Sterling Heights Assembly; Sterling Heights, MI; Notice of Termination of Investigation

Pursuant to Section 221 of the Trade Act of 1974, as amended, an investigation was initiated on February 6, 2009 in response to a worker petition filed by the International Union, United Automobile, Aerospace and Agricultural Implement Workers of America (UAW), Local 1700, on behalf of workers of Chrysler LLC, Sterling Heights Assembly, Sterling Heights, Michigan.

The petitioner has requested that the petition be withdrawn. Consequently, the investigation has been terminated.

Signed at Washington, DC, this 1st day of April 2009.
Richard Church,
Certifying Officer, Division of Trade Adjustment Assistance.

[FR Doc. E9-10371 Filed 5-5-09; 8:45 am]

BILLING CODE 4510-FN-P